DEPARTMENT OF JUSTICE

Notice of Lodging of Consent Decree Pursuant to The Clean Air Act

In accordance with Departmental policy, 28 CFR 50.7, notice is hereby given that a proposed consent decree in United States v. Harsco Corporation, No. 01-166 (E.D. Ky) was lodged on August 29, 2001, with the United States District Court for the Eastern District of Kentucky. The consent decree settles claims for civil penalties and injunctive relief against Harsco Corporation (“Harsco”) pursuant to Section 113(b) of the Clean Air Act (“the Act”), 42 U.S.C. 7413(b), based on violations of Kentucky's State Implementation Plan promulgated under the Act. 401 KAR 63:010(3)(1), (2). The consent decree requires Harsco to construct a partial enclosure with spraying equipment to control dust emissions from its slag recycling operations. The consent decree also requires Harsco to pay a civil penalty of $175,000.

The Department of Justice will receive, for a period of thirty (30) days from the date of this publication, comments relating to the proposed consent decree. Comments should be addressed to the Assistant Attorney General for the Environment and Natural Resources Division, Dep0artment of Justice, Washington, D.C. 20530, and should refer to United States v. Harsco Corporation, DOJ Ref.# 90-5-2-1-2115/1.

The proposed consent decree may be examined at the office of the United States Attorney, Eastern District of Kentucky, 110 West Vine Street, Suite 400 Lexington, Kentucky (859) 233-2661 and the Region 4 Office of the Environmental Protection Agency, 61 Forsyth Street, S.W. Atlanta, Georgia 30303. A copy of the proposed consent decree may be obtained by mail from the Consent Decree Library, P.O. Box 7611, Washington, D.C. 20044-7611. In requesting a copy please refer to the referenced case and enclose a check in the amount of $9.25 (25 cents per page reproduction costs), payable to the Consent Decree Library.

Ellen M. Mahan,
Assistant Section Chief, Environmental Enforcement Section, Environment and Natural Resources Division.

[FR Doc. 01-23952 Filed 9-24-01; 8:45 am]

BILLING CODE 4410-15-M